DEPARTMENT OF THE TREASURY

Internal Revenue Service

Proposed Collection; Comment Request for Information Collection Tools

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 8912, Clean Renewable Energy Bond Credit and Gulf Bond Credit; Form 14157, Tax Return Preparer Complaint; Form 990-T, Exempt Organization Business Income Tax Return; Form 5434, Application for Enrollment, and Form 5434-A, Application for Renewal of Enrollment; and Form 8582-CR, Passive Activity Credit Limitations.

DATES: Written comments should be received on or before December 10, 2012 to be assured of consideration.

ADDRESSES: Direct all written comments to Yvette Lawrence, Internal Revenue Service, room 6129, 1111 Constitution Avenue NW., Washington, DC 20224. Please send separate comments for each specific information collection listed below. You must reference the information collection's title, form number, reporting or record-keeping requirement number, and OMB number (if any) in your comment.

FOR FURTHER INFORMATION CONTACT: Requests for additional information or copies of the collection tools should be directed to R. Joseph Durbala, Internal Revenue Service, room 6129, 1111 Constitution Avenue NW., Washington, DC 20224, or at (202) 622-3634, or through the Internet at RJoseph.Durbala@irs.gov.

SUPPLEMENTARY INFORMATION: Currently, the IRS is seeking comments concerning the following information collection tools, reporting, and record-keeping requirements:

(1) Title: Clean Renewable Energy Bond Credit and Gulf Bond Credit.

OMB Number: 1545-2025. Form Number: 8912.

Abstract: Form 8912, Clean Renewable Energy Bond Credit and Gulf Bond Credit, was developed to carry out the provisions of new Internal Revenue Code sections 54 and 1400N(l). The new form provides a means for the taxpayer to compute the clean renewable energy bond credit and the Gulf bond credit.

Current Actions: There are no changes to the previously approved burden of this existing collection.

Type of Review: Extension of a currently approved collection.

Affected Public: Businesses and other for-profit organizations, Farms.

Estimated Number of Respondents: 500.

Estimated Time per Respondent: 11 hrs., 7 min.

Estimated Total Annual Burden Hours: 5,555.

(2) Title: Tax Return Preparer Complaint.

OMB Number: 1545-2168.

Form Number: 14157.

Abstract: This form was created to comply with TIGTA report 200840015, Complaints Against Return Preparers. This form will be used by taxpayers to report allegations of misconduct by tax return preparers. The form was created specifically for tax return preparer complaints and includes items necessary for the IRS to effectively evaluate the complaint and route to the appropriate function.

Current Actions: There are no changes being made to the revenue procedure at this time.

Type of Review: Extension of a currently approved collection.

Affected Public: Individuals or households and businesses and other for-profits.

Estimated Number of Respondents: 1,500.

Estimated Time per Respondent: 1 hr.

Estimated Total Annual Reporting Burden hours: 1,500.

(3) Title: Exempt Organization Business Income Tax Return.

OMB Number: 1545-0687.

Form Number: 990-T.

Abstract: Form 990-T is used to report and compute the unrelated business income tax imposed on exempt organizations by Internal Revenue Code section 511 and the proxy tax imposed by Code section 6033(e). The form provides the IRS with the information necessary to determine that the tax has been properly computed.

Current Actions: There is no change in the paperwork burden previously approved by OMB.

Type of Review: Extension of a currently approved collection.

Affected Public: Not-for-profit institutions.

Estimated Number of Respondents: 37,103.

Estimated Time per Respondent: 141 hrs., 20 min.

Estimated Total Annual Burden Hours: 5,244,139.

(4) Title: Form 5434, Application for Enrollment, and Form 5434-A, Application for Renewal of Enrollment.

OMB Number: 1545-0951.

Form Number: 5434 and 5434-A.

Abstract: Form 5434 is used to apply for enrollment to perform actuarial services under the Employee Retirement income

Security Act of 1974 (ERISA). Form 5434-A is used to renew enrollment every three years to perform actuarial services under (ERISA). The information is used by the Joint Board for the Enrollment of Actuaries to determine the eligibility of the applicant to perform actuarial services.

Current Actions: There is no change in the paperwork burden previously approved by OMB.

Type of Review: Extension of a currently approved collection.

Affected Public: Individuals or households.

Estimated Number of Respondents: 6,000.

Estimated Time per Respondent: 38 min.

Estimated Total Annual Burden Hours: 38,000.

(5) Title: Passive Activity Credit Limitations.

OMB Number: 1545-1034.

Form Number: 8582-CR.

Abstract: Under Internal Revenue Code section 469, credits from passive activities, to the extent they do not exceed the tax attributable to net passive income, are not allowed, Form 8582-CR is used to figure the passive activity credit allowed and the amount of credit to be reported on the tax return.

Current Actions: There is no change in the paperwork burden previously approved by OMB.

Type of Review: Extension of a currently approved collection.

Affected Public: Individuals or households, business or other for-profit organizations, and farms.

Estimated Number of Respondents: 300,000.

Estimated Time per Respondent: 14 hrs., 53 min.

Estimated Total Annual Burden Hours: 2,370,600.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: October 4, 2012.
R. Joseph Durbala,
IRS Reports Clearance Officer.

[FR Doc. 2012-25037 Filed 10-10-12; 8:45 am]

BILLING CODE 4830-01-P